DEPARTMENT OF VETERANS AFFAIRS

Veterans' Advisory Committee on Rehabilitation; Notice of Meeting

The Department of Veterans Affairs (VA) gives notice under the Federal Advisory Committee Act that a meeting of the Veterans' Advisory Committee on Rehabilitation (VACOR) will be held in St. Petersburg, Florida from March 25-27, 2019, at the below times and location:

On March 25-26, 2019 from 8:30 a.m. to 4:30 p.m., at the Bay Pines VA Healthcare System, 10000 Bay Pines Blvd., Bay Pines, FL 33744, ECR Conference Room.

On March 27, 2019 from 8:30 a.m. to 12:00 p.m., at the Bay Pines VA Healthcare System, 10000 Bay Pines Blvd., Bay Pines, FL 33744, ECR Conference Room.

The purpose of the Committee is to provide advice to the Secretary on the rehabilitation needs of Veterans with disabilities and on the administration of VA's rehabilitation programs.

On March 25-26, 2019, Committee members will be provided with updated briefings on various VA programs designed to enhance the rehabilitative potential of disabled Veterans. On March 27, 2019, the Committee will begin consideration of potential recommendations to be included in the Committee's next annual report. The meeting is open to the public.

Although no time will be allocated for receiving oral presentations from the public, members of the public may submit written statements for review by the Committee to Latrese Arnold, Designated Federal Officer, Veterans Benefits Administration (28), 810 Vermont Avenue NW, Washington, DC 20420, or via email at Latrese.Arnold@va.gov. In the communication, writers must identify themselves and state the organization, association or person(s) they represent. Because the meeting is being held in a government building, a photo I.D. must be presented as part of the clearance process. Due to an increase in security protocols, and in order to prevent delays in clearance processing, you should allow an additional 30 minutes before the meeting begins. Any member of the public who wishes to attend the meeting should RSVP to Latrese Arnold at (202) 461-9773 no later than close of business, March 21, 2019, at the phone number or email address noted above.

Dated: February 26, 2019.
LaTonya L. Small,
Federal Advisory Committee Management Officer.

[FR Doc. 2019-03695 Filed 2-28-19; 8:45 am]

BILLING CODE P